ENVIRONMENTAL PROTECTION AGENCY

[ER-FRL-8988-9]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at 202-564-7146 or http://www.epa.gov/compliance/nepa/. An explanation of the ratings assigned to draft environmental impact statements (EISs) was published in FR dated July 17, 2009 (74 FR 34754).

Notice

In accordance with Section 309(a) of the Clean Air Act, EPA is required to make its comments on EISs issued by other Federal agencies public. Historically, EPA has met this mandate by publishing weekly notices of availability of EPA comments, which include a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

Draft EISs

EIS No. 20090435, ERP No. D-APH-A65798-00, Glyphosate-Tolerant Alfalfa Events J101 and J163: Request for Non-Regulated Status, Implementation, United States.

Summary: EPA does not object to the proposed project. Rating LO.

EIS No. 20090452, ERP No. D-FHW-H40196-MO, Rex Whitton Expressway Project, To Safely and Reliably Improve Personal and Freight Mobility, Reduce Traffic Congestion, US 50/63 (Rex Whitton Expressway, also Known as Whitton) Facility in Cole County, MO.

Summary: EPA does not object to the proposed project. Rating LO.

EIS No. 20100010, ERP No. D-COE-E39079-NC, Surf City and North Topsail Beach Project, To Evaluate Coastal Storm Damage Reduction, Topsail Island, Pender and Onslow Counties, NC.

Summary: EPA expressed environmental concerns about the use of hopper dredges during construction and the potential effects on marine and threatened and endangered resources. Rating EC2.

EIS No. 20090278, ERP No. DS-FHW-B40092-NH, I-93 Highway Improvements, from Massachusetts State Line to Manchester, NH, Funding, NPDES and U.S. Army COE Section 404 Permits Issuance, Hillsborough and Rockingham Counties, NH.

Summary: EPA expressed environmental concerns about impacts related to alternatives, wetlands, water resources, greenhouse gas emissions, air quality, and indirect effects. Rating EC2.

Final EISs

EIS No. 20090439, ERP No. F-FHW-B40091-ME, Aroostook County Transport Study, Route I-161 Connector, To Identify Transportation Corridors that will Improve Mobility and Efficiency within Northeastern Aroostook County and other portions of the U.S. and Canada, U.S. Army COE Section 404 Permit, Endangered Species Act, NPDES and Section 10 River and Harbors Act, Caribou, Aroostook County, ME.

Summary: EPA expressed environmental concerns about wetland, road salt, and economic development impacts. EPA offered to provide additional input as necessary to help FHWA and MaineDOT address the comments.

EIS No. 20100021, ERP No. F-IBR-K65337-CA, Folsom Lake State Recreation Area & Folsom Powerhouse State Historic Park, General Plan/Resource Management Plan, Implementation, Placer County, CA.

Summary: While EPA does not object to the proposed action, EPA requested clarification of funding and enforcement mechanisms as well as a commitment to future project-specific environmental analysis.

Dated: March 9, 2010.
Robert W. Hargrove,
Director, NEPA Compliance Division, Office of Federal Activities.

[FR Doc. 2010-5442 Filed 3-11-10; 8:45 am]

BILLING CODE 6560-50-P